DEPARTMENT OF TRANSPORTATION

Federal Aviation Administration

14 CFR Part 71

[Docket No. FAA-2013-0136; Airspace Docket No. 13-ASW-4]

Amendment of Class D Airspace; Waco, TX, and Establishment of Class D Airspace; Waco, TSTC-Waco Airport, TX

AGENCY: Federal Aviation Administration (FAA), DOT.

ACTION: Final rule.

SUMMARY: This action amends Class D airspace at Waco, TX, by separating the Class D airspace at Waco Regional Airport from the Class D airspace at TSTC-Waco Airport. The FAA is taking this action to alleviate multiple air traffic controllers handling the same airspace and for the safety and management of Instrument Flight Rule (IFR) operations at the airport. The geographic coordinates for Waco Regional Airport are also adjusted.

DATES: Effective date: 0901 UTC, October 17, 2013. The Director of the Federal Register approves this incorporation by reference action under 1 CFR Part 51, subject to the annual revision of FAA Order 7400.9 and publication of conforming amendments.

FOR FURTHER INFORMATION CONTACT: Scott Enander, Central Service Center, Operations Support Group, Federal Aviation Administration, Southwest Region, 2601 Meacham Blvd., Fort Worth, TX 76137; telephone 817-321-7716.

SUPPLEMENTARY INFORMATION:

History

On June 3, 2013, the FAA published in the Federal Register a notice of proposed rulemaking (NPRM) to amend Class D airspace for Waco, TX (78 FR 33015) Docket No. FAA-2013-0136. Interested parties were invited to participate in this rulemaking effort by submitting written comments on the proposal to the FAA. No comments were received. Class D airspace designations are published in paragraph 5000 of FAA Order 7400.9W dated August 8, 2012, and effective September 15, 2012, which is incorporated by reference in 14 CFR 71.1. The Class D airspace designations listed in this document will be published subsequently in the Order.

The Rule

This action amends Title 14 Code of Federal Regulations (14 CFR) Part 71 by amending Class D airspace at Waco, TX, by separating the Class D airspace area for Waco Regional Airport from the Class D airspace area for TSTC-Waco Airport, to enhance the safety and management of IFR operations at both airports. TSTC-Waco Airport is removed from its current designation and established under its own designator; Waco, TSTC-Waco Airport, TX, to accommodate this separation of controlled airspace surrounding Waco Regional Airport. This enhances safety by not having multiple air traffic controllers responsible for the same airspace. Geographic coordinates for Waco Regional Airport are updated to coincide with the FAA's aeronautical database.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the U.S. Code. Subtitle 1, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace in the Waco, TX, area.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9W, Airspace Designations and Reporting Points, dated August 8, 2012, and effective September 15, 2012, is amended as follows:

Paragraph 5000 Class D airspace.

* * * * *

ASW TX D Waco, TX [Amended]

Waco, Waco Regional Airport, TX

(Lat. 31°36′44″ N., long. 97°13′49″ W.)

That airspace extending upward from the surface to and including 3,000 feet MSL within a 4.5-mile radius of Waco Regional Airport. This Class D airspace area is effective during the specific dates and times established in advance by a Notice to Airmen. The effective date and time will thereafter be published in the Airport/Facility Directory.

ASW TX D Waco, TSTC-Waco Airport, TX [New]

Waco, TSTC-Waco Airport, TX

(Lat. 31°38′16″ N., long. 97°04′27″ W.)

That airspace extending upward from the surface to and including 3,000 feet MSL within a 4.4-mile radius of TSTC-Waco Airport, excluding that airspace within the Waco Regional Airport Class D airspace area. This Class D airspace area is effective during the specific dates and times established in advance by a Notice to Airmen. The effective date and time will thereafter be published in the Airport/Facility Directory

Issued in Fort Worth, Texas, on July 25, 2013.
David P. Medina,
Manager, Operations Support Group, ATO Central Service Center.

[FR Doc. 2013-18713 Filed 8-7-13; 8:45 am]

BILLING CODE 4910-13-P